DEPARTMENT OF COMMERCE

International Trade Administration

[A-570-908]

Sodium Hexametaphosphate From the People's Republic of China: Preliminary Results of Antidumping Duty Administrative Review; 2011-2012

AGENCY: Import Administration, International Trade Administration, Department of Commerce.

SUMMARY: In response to requests from interested parties, the Department of Commerce (the “Department”) is conducting the third administrative review of the antidumping duty order on sodium hexametaphosphate (“sodium hex”) from the People's Republic of China (“PRC”) for the period of review (“POR”) March 1, 2011, through February 29, 2012. The Department has preliminarily determined that there are no reviewable entries during the POR.

DATES: Effective Date: December 7, 2012.

FOR FURTHER INFORMATION CONTACT: Paul Walker, AD/CVD Operations, Office 9, Import Administration, International Trade Administration, Department of Commerce, 14th Street and Constitution Avenue NW., Washington, DC 20230; telephone 202.482.0413.

SUPPLEMENTARY INFORMATION:

Scope of the Order

The scope of this order consists of sodium hexametaphosphate.¹ The merchandise subject to this order is currently classifiable in the Harmonized Tariff Schedule of the United States (“HTSUS”) statistical reporting number 2835.39.5000. However, it may also be imported as a blend or mixture under heading 3824.90.3900. Although the HTSUS subheadings are provided for convenience and customs purposes, the written product description, available in the Order remains dispositive.²

¹ See “Decision Memorandum for Preliminary Results of Antidumping Duty Administrative Review: Sodium Hexametaphosphate from the People's Republic of China,” (“Preliminary Decision Memorandum”) from Christian Marsh, Deputy Assistant Secretary for Antidumping and Countervailing Duty Operations to Paul Piquado, Assistant Secretary for Import Administration, dated concurrently with these results and hereby adopted by this notice.

² See Notice of Antidumping Duty Order: Sodium Hexametaphosphate from the People's Republic of China, 73 FR 14772 (March 19, 2008) (“Order”).

Preliminary Finding of No Shipments

Hubei Xingfa Chemical Group Co., Ltd. (“Hubei Xingfa”) and Sichuan Mianzhu Norwest Phosphate Co. (“Norwest”) submitted timely-filed certifications that they had no sales of subject merchandise to the United States during the POR.³ The Department also received information from U.S. Customs and Border Protection (“CBP”) indicating that there were no reviewable transactions from Hubei Xingfa or Norwest during the POR. Therefore, we preliminarily determine that Hubei Xingfa and Norwest had no reviewable transactions of subject merchandise during the POR. Because Hubei Xingfa and Norwest submitted timely no-shipment certifications and CBP data indicated that there were no reviewable transactions for these companies during the POR, we preliminarily determine that these two companies will retain their separate rate from the previous administrative review. For a full description of the methodology underlying our conclusions, see the Preliminary Decision Memorandum.⁴ The Preliminary Decision Memorandum is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the Preliminary Decision Memorandum can be accessed directly on the Internet at http://www.trade.gov/ia/. The signed Preliminary Decision Memorandum and the electronic versions of the Preliminary Decision Memorandum are identical in content.

³ See Hubei Xingfa's letter dated May 4, 2012; see also Norwest's letter dated June 29, 2012.

⁴ See Preliminary Decision Memorandum.

PRC-Wide Entity

There are 13 other companies also under review in this segment, none of which have a separate rate from a prior segment of this proceeding.⁵ Because these companies have not established their eligibility for a separate rate, the Department preliminarily determines that they will continue to be considered part of the PRC-wide entity.⁶

⁵ These companies are: Aditya Birla Chemicals (Thailand) Ltd., Anhui Technology Import & Export Co., Ltd., Anshan Career Economic Trade Co., Ltd., Blue Science Limited, Boon Stream Chemical International Trade, Chengdu Boon Stream Chemical Industry Co., Ltd., Dezhou Hualude Hardware Products Co. Ltd., Gatehouse International Freight Ltd., Henan Sinchems Imp and Exp Co., Ltd., Hubei Xingfa Chemical Export Import Co. Ltd., Rushan Wooyoung Trading Co., Ltd., Unison Chemical Industrial Co, Ltd. and Zhejiang Chun-an Foreign Trade Co.

⁶ See the Preliminary Decision Memorandum.

Preliminary Results of Review

The Department preliminarily determines that the following weighted-average dumping margin exists:

Exporter | Weighted average dumping margin
PRC-wide Entity ⁷ | 188.05

Public Comment

Interested parties who wish to request a hearing, or to participate if one is requested, must submit a written request to the Assistant Secretary for Import Administration, U.S. Department of Commerce, filed electronically in IA ACCESS. An electronically filed document must be received successfully in its entirety by the Department's electronic records system, IA ACCESS, by 5 p.m. Eastern Time within 30 days after the date of publication of this notice.⁸ Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing. Interested parties are invited to comment on the preliminary results of this review.

⁷ The PRC-wide entity includes Aditya Birla Chemicals (Thailand) Ltd., Anhui Technology Import & Export Co., Ltd., Anshan Career Economic Trade Co., Ltd., Blue Science Limited, Boon Stream Chemical International Trade, Chengdu Boon Stream Chemical Industry Co., Ltd., Dezhou Hualude Hardware Products Co. Ltd., Gatehouse International Freight Ltd., Henan Sinchems Imp and Exp Co., Ltd., Hubei Xingfa Chemical Export Import Co. Ltd., Rushan Wooyoung Trading Co., Ltd., Unison Chemical Industrial Co, Ltd. and Zhejiang Chun-an Foreign Trade Co.

⁸ See section 351.310(c) of the Department's regulations.

The Department will consider case briefs filed by interested parties within 30 days after the date of publication of this notice in the Federal Register.⁹ Interested parties may file rebuttal briefs, limited to issues raised in the case briefs.¹⁰ The Department will consider rebuttal briefs filed not later than five days after the time limit for filing case briefs. Parties who submit arguments are requested to submit with each argument a statement of the issue, a brief summary of the argument, and a table of authorities cited. The Department intends to issue the final results of this administrative review, including the results of our analysis of issues raised in the written comments, within 120 days of publication of these preliminary results.

⁹ See section 351.309(c)(1)(ii) of the Department's regulations.

¹⁰ See section 351.309(d) of the Department's regulations.

Assessment Rates

Upon issuance of the final results, the Department will determine, and CBP shall assess, antidumping duties on all appropriate entries. The Department intends to issue assessment instructions to CBP 15 days after the date of publication of the final results of review. The Department recently announced a refinement to its assessment practice in NME cases. Pursuant to this refinement in practice, for entries that were not reported by companies examined during this review, the Department will instruct CBP to liquidate such entries at the NME-wide rate. In addition, if the Department determines that an exporter under review had no shipments of the subject merchandise, any suspended entries that entered under that exporter's case number (i.e., at that exporter's rate) will be liquidated at the NME-wide rate.¹¹

¹¹ See Non-Market Economy Antidumping Proceedings: Assessment of Antidumping Duties, 76 FR 65694 (October 24, 2011).

Cash Deposit Requirements

The following cash deposit requirements will be effective upon publication of the final results of this administrative review for shipments of the subject merchandise from the PRC entered, or withdrawn from warehouse, for consumption on or after the publication date, as provided by sections 751(a)(2)(C) of the Act: (1) For previously investigated or reviewed PRC and non-PRC exporters not listed above that received a separate rate in a prior segment of this proceeding, the cash deposit rate will continue to be the existing exporter-specific rate; (2) for all PRC exporters of subject merchandise that have not been found to be entitled to a separate rate, the cash deposit rate will be that for the PRC-wide entity; and (3) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under section 351.402(f)(2) of the Department's regulations to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and section 351.221(b)(4) of the Department's regulations.

Dated: November 29, 2012.
Paul Piquado,
Assistant Secretary for Import Administration.

[FR Doc. 2012-29642 Filed 12-6-12; 8:45 am]

BILLING CODE 3510-DS-P